DEPARTMENT OF VETERANS AFFAIRS

Advisory Committee Charter Renewals

AGENCY: Department of Veterans Affairs.

ACTION: Notice of Advisory Committee Charter Renewals.

SUMMARY: In accordance with the provisions of the Federal Advisory Committee Act (FACA), 5 U.S.C. App. 2, and after consultation with the General Services Administration, the Secretary of Veterans Affairs has determined that the following Federal advisory committees are vital to the mission of the Department of Veterans Affairs (VA) and renewing their charters would be in the public interest. Consequently, the charters for the following Federal advisory committees are renewed for a two-year period, beginning on the dates listed below:

Committee name | Committee description | Charter renewed on
Genomic Medicine Program Advisory Committee | Provides advice on the scientific and ethical issues related to the establishment, development, and operation of a genomic medicine program within VA | March 13, 2012.
Veterans' Rural Health Advisory Committee | Provides advice on health care issues affecting enrolled veterans residing in rural areas | June 21, 2012.
Clinical Science Research and Development Service Cooperative Studies Scientific Evaluation Committee | Provides advice on VA cooperative studies, multi-site clinical research activities, and policies related to conducting and managing these efforts while ensuring that new and ongoing projects maintain high quality, are based upon scientific merit, and are efficiently and economically conducted | July 12, 2012.
Health Services Research and Development Service Scientific Merit Review Board | Provides advice on the fair and equitable selection of the most meritorious research projects for support by VA research funds and ensuring the high quality and mission relevance of VA's legislatively mandated research and development program. Also advises on the adequacy of protection of human and animal subjects | July 12, 2012.
Joint Biomedical Laboratory Research and Development and Clinical Science Research and Development Services Scientific Merit Review Board | Provides advice on the scientific quality, budget, safety, and mission relevance of investigator-initiated research proposals submitted for VA merit review consideration. The proposals may address research questions within the general areas of biomedical and behavioral research or clinical science research | July 12, 2012.
Rehabilitation Research and Development Service Scientific Merit Review Board | Provides advice on the rehabilitation needs of disabled veterans and the administration of VA's rehabilitation programs | July 12, 2012.

The Secretary has also renewed the charters for the following statutorily authorized Federal advisory committees for a two-year period, beginning on the dates listed below:

Committee name | Committee description | Charter renewed on
Advisory Committee on Minority Veterans | Authorized by 38 U.S.C. 544. Provides advice on the administration of VA benefits for veterans who are minority group members in the areas of compensation, health care, rehabilitation, outreach, and other services | March 13, 2012.
Advisory Committee on Prosthetics and Special Disabilities-Programs | Authorized by 38 U.S.C. 543. Provides advice on VA prosthetics programs and rehabilitation research, development, and evaluation of prosthetics technology. Assesses VA programs that serve veterans with spinal cord injury, blindness, or vision impairment, loss of or loss of use of extremities, deafness or hearing impairment, or other serious incapacities | March 13, 2012.
Advisory Committee on Homeless Veterans | Authorized by 38 U.S.C. 2066. Provides advice on benefits and services provided to homeless veterans by VA | March 15, 2012.
Advisory Committee on Former Prisoners of War | Authorized by 38 U.S.C. 541. Provides advice on the administration of benefits for veterans who are former prisoners of war, and assesses the needs of such veterans in the areas of service-connected compensation, health care, and rehabilitation | March 20, 2012.
Veterans' Advisory Committee on Education | Authorized by 38 U.S.C. 3692. Provides advice on the administration of education and training programs for veterans and servicepersons, reservists, and dependents of veterans under chapters 30, 32, 33, 35, and 36 of title 38, and chapters 1606 and 1607 of title 10, United States Code | March 21, 2012.
Special Medical Advisory Group | Authorized by 38 U.S.C. 7312. Provides advice on matters relating to the care and treatment of veterans and matters pertinent to the operations of the Veterans Health Administration (i.e. research, education, training of health care professionals, and VA's role in support of the missions of the Departments of Defense and Homeland Security) | April 4, 2012.
Geriatrics and Gerontology Advisory Committee | Authorized by 38 U.S.C. 7315. Provides advice on all matters pertaining to geriatrics and gerontology by assessing the capability of VA health care facilities to meet the medical, psychological, and social needs of older veterans, and evaluating VA facilities designated as Geriatric Research, Education, and Clinical Centers | July 5, 2012.
Advisory Committee on Structural Safety of Department of Veterans Affairs Facilities | Authorized by 38 U.S.C. 8105. Provides advice on structural safety in the construction and remodeling of VA facilities, and recommends standards for use by VA in the construction and alteration of facilities | September 27, 2012.

FOR FURTHER INFORMATION CONTACT: Vivian Drake, Committee Management Officer, Department of Veterans Affairs, Advisory Committee Management Office (00AC), 810 Vermont Avenue NW., Washington, DC 20420; telephone (202) 461-7028; or email at vivian.drake@va.gov. To view a copy of a VA Federal advisory committee charter, visit http://www.va.gov/advisory.

Dated: October 9, 2012.
By direction of the Secretary.
Vivian Drake,
Committee Management Officer.

[FR Doc. 2012-25218 Filed 10-12-12; 8:45 am]

BILLING CODE P